DEPARTMENT OF JUSTICE

Notice of Lodging of Proposed Consent Decree Under the Clean Water Act

On April 16, 2013, the Department of Justice lodged a proposed Consent Decree with the United States District Court for the Western District of Washington in the lawsuit entitled United States and the State of Washington v. City of Seattle, Washington, Civil Action No. 2:13-cv-00678.

In this action the United States sought civil penalties and injunctive relief for violations of the Clean Water Act (“CWA”), 33 U.S.C. 1251 et seq., in connection with the City of Seattle, Washington (“City”) operation of its sewer system in the Seattle area. The proposed consent decree requires the City to implement extensive injunctive relief to expand and rehabilitate both its combined sewer system and its separated sewer system to reduce or eliminate unlawful overflows of sewage into the Puget Sound, Lake Washington, Union Lake, and various lakes, bays, and streams in the Seattle area, as well as unpermitted discharges to residential basements and from manholes or other discharge points within the City's sewer system. The City will also pay a total of $350,000.00 in civil penalties: $175,000 to the United States and $175,000 to the State of Washington.

The publication of this notice opens a period for public comment on the proposed Consent Decree. Comments should be addressed to the Assistant Attorney General, Environment and Natural Resources Division, and should refer to United States v. City of Seattle, Washington, D.J. Ref. No. 90-5-1-1-10066. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $18.75 (25 cents per page reproduction cost) payable to the United States Treasury.

Robert E. Maher, Jr.,
Assistant Section Chief, Environmental Enforcement Section, Environment and Natural Resources Division.

[FR Doc. 2013-09896 Filed 4-25-13; 8:45 am]

BILLING CODE 4410-15-P